DEPARTMENT OF VETERANS AFFAIRS

Advisory Committee on Tribal and Indian Affairs; Notice of Meeting

The Department of Veterans Affairs (VA) gives notice under the Federal Advisory Committee Act, 5 U.S.C. 10., that the Advisory Committee on Tribal and Indian Affairs (ACTIA) will meet on April 4, 5, and 6, 2023 at the Seven Feathers Hotel Resort, 146 Chief Miwaleta Lane, Canyonville, OR 97417. The meeting sessions will begin, and end as follows:

Dates | Times
April 4, 2023 | 11 a.m.-7:30 p.m.—Eastern Standard Time (EST).
April 5, 2023 | 11 a.m.-7:30 p.m. EST.
April 6, 2023 | 11 a.m.-3 p.m. EST.

ACTIA meetings will be open to the public (virtually) during the meeting times listed.

The purpose of the Committee is to advise the Secretary on all matters relating to Indian tribes, tribal organizations, Native Hawaiian organizations, and Native American Veterans. This includes advising the Secretary on the administration of healthcare services and benefits to American Indians/Alaska Natives (AI/AN) and Native Hawaiian Veterans; thereby assessing those needs and whether VA is meeting them.

On April 4, 2023, the agenda will include opening remarks from the Committee Chair, Executive Sponsor and other VA officials. There will be updates on the PACT Act, Tribal HUD-VASH, co-pay exemptions for Native American Veterans, Veterans Health Administration/Indian Health Service (HIS) Memorandum of Understanding, IHS/Tribal health program reimbursement agreements and purchased referred care.

On April 5, 2023, the agenda will include updates and a panel discussion with senior officials from VA and IHS. Subsequent updates and briefings will be provided on the White House Council on Native American Affairs Health Committee; Tribal Veterans Representation Expansion Project; Veterans Benefits Administration Claims events in Indian Country; Native American Direct Loan; and the Native American Veteran Program.

On April 6, 2023, from 11:15 a.m. to 12:30 p.m. there will be Public Comment from those public members who have provided a written summary. The Committee will then receive a briefing on AI/AN Data for Veteran suicide/behavioral health. This will be followed by a discussion on the transition plan for the Committee with new and outgoing members. The Committee will then hold open discussion on topics relevant to the Committee and address follow-up and action items including dates for next meeting.

The meetings are open to the public (virtually) and will be recorded. Members of the public can attend the meeting by joining the Zoom meeting at the link below.

Meeting Link

https://veteransaffairs.webex.com/veteransaffairs/j.php?MTID=m84b407c76887afa5d1db9bb499c27d64

Individuals who wish to speak are invited to submit a 1-2-page summary of their comments no later than March 31, 2023, for inclusion in the official meeting record. Members of the public may also submit written statements for the Committee's review to Peter Vicaire, at Peter.Vicaire@va.gov. Any member of the public seeking additional information should contact Peter Vicaire at the email address above or by calling 612-558-7744.

Dated: March 3, 2023.
Jelessa M. Burney,
Federal Advisory Committee Management Officer.

[FR Doc. 2023-04731 Filed 3-7-23; 8:45 am]

BILLING CODE P